DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (OFAC) is publishing the names of the individuals whose property and interests in property have been unblocked pursuant to Executive Order 12978 of October 21, 1995, Blocking Assets and Prohibiting Transactions With Significant Narcotics Traffickers.

DATES: The unblocking and removal from the list of Specially Designated Nationals and Blocked Persons (SDN List) of the six individuals identified in this notice whose property and interests in property were blocked pursuant to Executive Order 12978 of October 21, 1995, is effective on October 15, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On October 15, 2015, the Associate Director of the Office of Global Targeting removed from the SDN List the individuals listed below, whose property and interests in property were blocked pursuant to the Order:

Individuals:

1. BERMUDEZ LUQUE, Santiago, c/o AERONAUTICA CONDOR DE PANAMA, S.A., Panama; c/o ASES DE COMPETENCIA Y CIA. S.A., Medellin, Colombia; Camino al Olivo 114, Vista Hermosa, Mexico City, Distrito Federal, Mexico; DOB 22 Aug 1987; POB Medellin, Colombia; Cedula No. 1126644222 (Colombia); C.U.R.P. BELS870822HNERQN14 (Mexico); Identification Number 87082253007 (Colombia) (individual) [SDNT].

2. HENAO GONZALEZ, Carlos Andres, Carrera 8N No. 17A-12, Cartago, Colombia; c/o AGRICOLA GANADERA HENAO GONZALEZ Y CIA. S.C.S., Cartago, Colombia; c/o AGROPECUARIA MIRALINDO S.A., Cartago, Colombia; c/o COMPANIA AGROINVERSORA HENAGRO LTDA., Cartago, Colombia; c/o ARIZONA S.A., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 27 Nov 1980; Cedula No. 75096405 (Colombia); Passport 75096405 (Colombia) (individual) [SDNT].

3. RENGIFO OSPINA, Edwin Amir, c/o AGROGANADERA LA ISABELA S.A., Cali, Colombia; c/o CONSTRUCCIONES LA RESERVA S.A., Cali, Colombia; c/o CONSTRUCTORA JUANAMBU S.A., Cali, Colombia; c/o CONSTRUCTORA LOMA LINDA S.A., Cali, Colombia; c/o CONSTRUCTORA UMBRIA S.A., Cali, Colombia; c/o CENTRO COMERCIAL GUSS S.A., Cali, Colombia; c/o RED DE SERVICIOS INMOBILIARIO PROFESIONALES S.A., Bogota, Colombia; c/o MIRACANA INMOBILIARIA QUILCHAO S.A. & CIA S.C.A., Cali, Colombia; c/o FRONTERA VIRTUAL S.A., Bogota, Colombia; Calle 82 No. 8-43, Apt. 201, Bogota, Colombia; DOB 20 Jun 1975; POB Bogota, Colombia; nationality Colombia; citizen Colombia; Cedula No. 79693032 (Colombia); Passport AI054522 (Colombia) issued 16 May 2001 expires 16 May 2011; alt. Passport AF294763 (Colombia) (individual) [SDNT].

4. RENGIFO OSPINA, Jefferson, c/o RED DE SERVICIOS INMOBILIARIO PROFESIONALES S.A., Bogota, Colombia; c/o MIRACANA INMOBILIARIA QUILCHAO S.A. & CIA S.C.A., Cali, Colombia; c/o CENTRO COMERCIAL GUSS S.A., Cali, Colombia; c/o FRONTERA VIRTUAL S.A., Bogota, Colombia; Calle 98 No. 9-41, Apt. 1202, Bogota, Colombia; DOB 19 Dec 1977; POB Cali, Colombia; nationality Colombia; citizen Colombia; Cedula No. 94511007 (Colombia); Passport PO34555 (Colombia); alt. Passport AF237758 (Colombia) (individual) [SDNT].

5. RENGIFO OSPINA, Lina Milayi, c/o FRONTERA VIRTUAL S.A., Bogota, Colombia; c/o CENTRO COMERCIAL GUSS S.A., Cali, Colombia; c/o CONSTRUCTORA UMBRIA S.A., Cali, Colombia; c/o MIRACANA INMOBILIARIA QUILCHAO S.A. & CIA S.C.A., Cali, Colombia; c/o RED DE SERVICIOS INMOBILIARIO PROFESIONALES S.A., Bogota, Colombia; DOB 22 Oct 1983; POB Bogota, Colombia; nationality Colombia; citizen Colombia; Cedula No. 52965678 (Colombia); Passport AI087604 (Colombia); alt. Passport AF295127 (Colombia) (individual) [SDNT].

6. VICTORIA POTES, Nestor Raul, c/o AGROPECUARIA LA ROBLEDA S.A., Cali, Colombia; c/o INDUSTRIA AVICOLA PALMASECA S.A., Cali, Colombia; Calle 70N No. 14-31, AA26397, Cali, Colombia; c/o ADMINISTRACION INMOBILIARIA S.A., Cali, Colombia; c/o INVERSIONES VILLA PAZ S.A., Cali, Colombia; c/o PROHUEVO DE COLOMBIA LTDA., Cali, Colombia; c/o GANADERIAS DEL VALLE S.A., Cali, Colombia; c/o AGROPECUARIA BETANIA LTDA., Cali, Colombia; DOB 25 Nov 1951; Cedula No. 16247701 (Colombia) (individual) [SDNT].

Dated: October 15, 2015.
Gregory T. Gatjanis,
Associate Director, Office of Global Targeting, Office of Foreign Assets Control.

[FR Doc. 2015-26698 Filed 10-20-15; 8:45 am]

BILLING CODE 4810-AL-P